DEPARTMENT OF VETERANS AFFAIRS

[OMB Control No. 2900-New (VA Form 1465-1)]

Agency Information Collection (Nation-wide Customer Satisfaction Surveys) Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, will submit the collection of information abstracted below to the Office of Management and Budget (OMB) for review and comment. The PRA submission describes the nature of the information collection and its expected cost and burden, and includes the actual data collection instrument.

DATES: Comments must be submitted on or before March 6, 2008.

ADDRESSES: Submit written comments on the collection of information through http://www.Regulations.gov; or to VA's OMB Desk Officer, OMB Human Resources and Housing Branch, New Executive Office Building, Room 10235, Washington, DC 20503 (202) 395-7316. Please refer to “OMB Control No. 2900-New (VA Form 1465-1)” in any correspondence.

FOR FURTHER INFORMATION OR A COPY OF THE SUBMISSION CONTACT: Denise McLamb, Records Management Service (005R1B), Department of Veterans Affairs, 810 Vermont Avenue, NW., Washington, DC 20420, (202) 461-7485, FAX (202) 273-0443 or e-mail: denise.mclamb@mail.va.gov. Please refer to “OMB Control No. 2900-New (VA Form 1465-1).”

SUPPLEMENTARY INFORMATION:

Title: Nation-wide Customer Satisfaction Surveys, VA Forms 1465-1 through 1465-4.

OMB Control Number: 2900-New (VA Form 1465-1).

Type of Review: New collection.

Abstract: The purpose of the Survey of Health Experience of Patients (SHEP) Survey is to systematically obtain information from VA patients to identify problems or complaints that need attention and to improve the quality of health care services delivered to veterans. Data will be use to measure improvement toward the goal of matching or exceeding the non-VA external benchmark performance in providing quality health care services to veterans.

An agency may not conduct or sponsor, and a person is not required to respond to a collection of information unless it displays a currently valid OMB control number. The Federal Register Notice with a 60-day comment period soliciting comments on this collection of information was published on October 24, 2007, at pages 60406-60407.

Affected Public: Individuals or households.

Estimated Annual Burden:

a. HCAHPS plus Inpatient Core-Long Form, VA Form 10-1465-1—2,500 hours.

b. HCAHPS plus Inpatient Core-Short Form, VA Form 10-1465-2—16,875 hours.

c. Outpatient Long Form, VA Form 10-1465-3—9,802 hours.

d. Outpatient Short Form, VA Form 10-1465-4—67,573 hours.

Estimated Average Burden Per Respondent:

a. HCAHPS plus Inpatient Core-Long Form, VA Form 10-1465-1—20 minutes.

b. HCAHPS plus Inpatient Core-Short Form, VA Form 10-1465-2—15 minutes.

c. Outpatient Long Form, VA Form 10-1465-3—25 minutes.

d. Outpatient Short Form, VA Form 10-1465-4—20 minutes.

Frequency of Response: On occasion.

Estimated Number of Respondents:

a. HCAHPS plus Inpatient Core-Long Form, VA Form 10-1465-1—7,500.

b. HCAHPS plus Inpatient Core-Short Form, VA Form 10-1465-2—67,500.

c. Outpatient Long Form, VA Form 10-1465-3—23,524.

d. Outpatient Short Form, VA Form 10-1465-4—202,720.

Dated: January 25, 2008.
By direction of the Secretary:
Denise McLamb,
Program Analyst, Records Management Service.

[FR Doc. E8-2038 Filed 2-4-08; 8:45 am]

BILLING CODE 8320-01-P